Proclamation 10359 of March 31, 2022

National Child Abuse Prevention Month, 2022

By the President of the United States of America

A Proclamation

Every child deserves to live in a safe and loving household; yet, for hundreds of thousands of children across our Nation, abuse and neglect are a tragic reality. During National Child Abuse Prevention Month, our country stands as one to condemn and combat child abuse in all of its forms—including physical, emotional, and sexual abuse, as well as online sexual exploitation; we raise awareness about the risk factors that can lead to child abuse and neglect; and we highlight the importance of supporting families to prevent child maltreatment. As a Nation, we must work together to prevent and address child abuse and ensure that every child can grow up in a safe environment and live a happy, prosperous life.

Child abuse crosses all socioeconomic and educational levels, religions, and ethnic and cultural backgrounds. We know that abuse and neglect negatively impact every aspect and stage of a child's life. Child abuse impacts the ability of students to succeed in school and often hinders their ability to forge healthy relationships with their loved ones and peers. It is associated with involvement in the juvenile justice system, especially for girls who have experienced sexual abuse. One of the most important tools to break the cycle and eliminate the tragedy of child abuse and neglect is prevention. This requires that we support and uplift our communities, families, and individuals so that our children can be raised in safe, loving, and healthy environments. For those children and adolescents who do experience abuse, it is important to ensure access to trauma-informed services and healing.

In order to help prevent child abuse and neglect, my Administration is committed to providing high-quality and equitable support to all families that need it. The American Rescue Plan provided cash assistance to millions of working families and expanded the Child Tax Credit—which lifted millions of children and families out of poverty. It supplied critical funding to support State and community child abuse prevention and response efforts and authorized an additional $250 million for community-based child abuse prevention programs. This additional funding has allowed communities to address the complex structural issues that contribute to families becoming involved in the child welfare system. At a time when families are experiencing elevated hardships, especially vulnerable families that have been disproportionately affected by COVID-19, this extra support is more important than ever. Also, I was proud to sign into law a bill to help sustain the Crime Victims Fund, which provides assistance for child advocacy centers and other programs to address child abuse.

I was raised to believe that one of the greatest sins is the abuse of power, and there is no greater abuse of power than the abuse of a child. National Child Abuse Prevention Month is an opportunity to take bold action to better support parents and caregivers with access to resources to cope during challenging times. It is also a time to identify and take the necessary steps to address inequities experienced by those who have been historically underserved and adversely affected by continuous poverty and inequality. Reducing child poverty is critical to reducing the disproportional representation of low-income children and families—especially communities of color—in the child welfare system and foster care.

Our Nation is also witnessing a cynical and dangerous campaign waged by some elected leaders who are attempting to weaponize the child welfare system against families just because they love and affirm their transgender children. These leaders have sought to direct child abuse investigations into families simply because they have provided access to affirming care for their children. These discriminatory actions threaten to hurt our Nation's children and must stop. Affirming a transgender child's identity is one of the best things that a parent, teacher, or doctor can do to keep children from harm. My Administration will continue to take actions to keep transgender children and their families safe. That is why the Department of Health and Human Services recently released new guidance to State child welfare agencies on how they can support and affirm LGBTQI+ children who are in foster care.

During National Child Abuse Prevention Month and throughout the year, I call upon everyone to stand together against child abuse and neglect and show our appreciation of the hardworking child-welfare workforce and allies who are steadfast in their commitment to strengthening families, protecting children, and combating systemic inequities. For more information on how professionals and communities are supporting families and to learn strategies to advance equity in child abuse prevention programs, please view the 2021/2022 Prevention Resource Guide, available at childwelfare.gov.

NOW, THEREFORE, I, JOSEPH R. BIDEN JR., President of the United States of America, by virtue of the authority vested in me by the Constitution and the laws of the United States, do hereby proclaim April 2022 as National Child Abuse Prevention Month. I call upon all Americans to observe this month by joining together as a Nation to promote the safety and well-being of all children and families and to recognize the child-welfare workforce and allies who work tirelessly to protect our children. And we honor the strength and resilience of adult survivors of child abuse.

IN WITNESS WHEREOF, I have hereunto set my hand this thirty-first day of March, in the year of our Lord two thousand twenty-two, and of the Independence of the United States of America the two hundred and forty-sixth.

[FR Doc. 2022-07273

Filed 4-4-22; 8:45 am]

Billing code 3395-F2-P